DEPARTMENT OF LABOR

Employment and Training Administration

[TA-W-74,280]

Whirlpool Corporation, Benton Harbor Division, Including On-Site Leased Workers of Aerotek and Penske Logistics, LLC, Benton Harbor, MI; Amended Certification Regarding Eligibility To Apply for Worker Adjustment Assistance

In accordance with Section 223 of the Trade Act of 1974, as amended (“Act”), 19 U.S.C. 2273, the Department of Labor issued a Certification of Eligibility to Apply for Worker Adjustment Assistance on September 14, 2010, applicable to workers of Whirlpool Corporation, Benton Harbor Division, Benton Harbor, Michigan, including on-site leased workers from Aerotek, Benton Harbor, Michigan. The Department's notice of determination was published in the Federal Register on September 29, 2010 (75 FR 60143).

At the request of the petitioners, the Department reviewed the certification for workers of the subject firm. The workers were engaged in activities related to the production of machined and plated component parts utilized in laundry equipment.

The company reports that workers leased from Penske Logistics, LLC, were employed on-site at the Benton Harbor, Michigan location of Whirlpool Corporation, Benton Harbor Division. The Department has determined that these workers were sufficiently under the control of the subject firm to be considered leased workers.

Based on these findings, the Department is amending this certification to include workers leased from Penske Logistics, LLC working on-site at the Benton Harbor, Michigan location of Whirlpool Corporation, Benton Harbor Division.

The amended notice applicable to TA-W-74,280 is hereby issued as follows:

All workers of Whirlpool Corporation, Benton Harbor Division, including on-site leased workers from Aerotek and Penske Logistics, LLC, Benton Harbor, Michigan, who became totally or partially separated from employment on or after June 18, 2009, through September 14, 2012, and all workers in the group threatened with total or partial separation from employment on the date of certification through two years from the date of certification, are eligible to apply for adjustment assistance under Chapter 2 of Title II of the Trade Act of 1974, as amended.

Signed in Washington, DC, this 17th day of December 2010.
Del Min Amy Chen,
Certifying Officer, Office of Trade Adjustment Assistance.

[FR Doc. 2011-764 Filed 1-13-11; 8:45 am]

BILLING CODE 4510-FN-P